DEPARTMENT OF STATE

[Public Notice: 7332]

Department of State Performance Review Board Members

In accordance with section 4314(c)(4) of 5 United States Code, the Department of State has appointed the following individuals to the Department of State Performance Review Board for Non-Career Senior Executive Service members:

Jeanne-Marie Smith, Chairperson, Senior Advisor, Deputy Secretary for Management and Resources, Department of State;

Kris M. Balderston, Special Representative, Global Partnership Initiative, Department of State; and

Cheryl Ann Benton, Deputy Assistant Secretary, Bureau of Public Affairs.

Dated: February 2, 2011.
Nancy J. Powell,
Director General of the Foreign Service and Director of Human Resources, Department of State.

[FR Doc. 2011-3006 Filed 2-9-11; 8:45 am]

BILLING CODE 4710-15-P